DEPARTMENT OF HOMELAND SECURITY

Federal Emergency Management Agency

[Docket ID FEMA-2018-0002; Internal Agency Docket No. FEMA-B-1863]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Colorado:
Denver | City and County of Denver (18-08-1060P) | The Honorable Michael Hancock, Mayor, City and County of Denver, 1437 Bannock Street, Room 350, Denver, CO 80202 | Department of Public Works, 201 West Colfax Avenue, Denver, CO 80202 | https://msc.fema.gov/portal/advanceSearch | Jan. 11, 2019 | 080046
Denver | City of Fountain (17-08-0467P) | The Honorable Gabriel Ortega, Mayor, City of Fountain, 116 South Main Street, Fountain, CO 80817 | Pikes Peak Regional Development Center, 2880 International Circle, Colorado Springs, CO 80910 | https://msc.fema.gov/portal/advanceSearch | Jan. 15, 2019 | 080061
El Paso | Unincorporated areas of El Paso County (17-08-0467P) | The Honorable Darryl Glenn, President, El Paso County Board of Commissioners, 200 South Cascade Avenue, Suite 100, Colorado Springs, CO 80903 | Pikes Peak Regional Development Center, 2880 International Circle, Colorado Springs, CO 80910 | https://msc.fema.gov/portal/advanceSearch | Jan. 15, 2019 | 080059
Connecticut:
New Haven | City of New Haven (18-01-1588P) | The Honorable Toni N. Harp, Mayor, City of New Haven, 165 Church Street, New Haven, CT 06510 | Planning Department, 165 Church Street, 5th Floor, New Haven, CT 06510 | https://msc.fema.gov/portal/advanceSearch | Jan. 18, 2019 | 090084
Tolland | Town of Mansfield (18-01-0807P) | Mr. Derrik M. Kennedy, Manager, Town of Mansfield, 4 South Eagleville Road, Mansfield, CT 06268 | Town Hall, 4 South Eagleville Road, Mansfield, CT 06268 | https://msc.fema.gov/portal/advanceSearch | Jan. 11, 2019 | 090128
Delaware:
Kent | Town of Camden (18-03-0719P) | The Honorable Justin T. King, Mayor, Town of Camden, 1783 Friends Way, Camden, DE 19934 | Land Use Department, 1783 Friends Way, Camden, DE 19934 | https://msc.fema.gov/portal/advanceSearch | Jan. 9, 2019 | 100003
Kent | Unincorporated areas of Kent County (18-03-0719P) | The Honorable P. Brooks Banta, President and First District Commissioner, Kent County Levy Court, 555 Bay Road, Dover, DE 19901 | Kent County Inspections and Enforcement Department, 555 Bay Road, Dover, DE 19901 | https://msc.fema.gov/portal/advanceSearch | Jan. 9, 2019 | 100001
Florida:
Lee | Town of Fort Myers Beach (18-04-4850P) | The Honorable Tracey Gore, Mayor, Town of Fort Myers Beach, 2525 Estero Boulevard, Fort Myers Beach, FL 33931 | Community Development Department, 2525 Estero Boulevard, Fort Myers Beach, FL 33931 | https://msc.fema.gov/portal/advanceSearch | Jan. 31, 2019 | 120673
Lee | Unincorporated areas of Lee County (18-04-5442P) | Mr. Roger Desjarlais, Manager, Lee County, 2120 Main Street, Fort Myers, FL 33901 | Lee County Building Department, 1500 Main Street, Fort Myers, FL 33901 | https://msc.fema.gov/portal/advanceSearch | Jan. 17, 2019 | 125124
Miami-Dade | City of Doral (18-04-3562P) | The Honorable Juan C. Bermudez, Mayor, City of Doral, 8401 NW 53rd Terrace, 2nd Floor, Doral, FL 33166 | City Hall, 8401 Northwest 53rd Terrace, Doral, FL 33166 | https://msc.fema.gov/portal/advanceSearch | Jan. 31, 2019 | 120041
Monroe | City of Marathon (18-04-5518P) | The Honorable Michelle Coldiron, Mayor, City of Marathon, 9805 Overseas Highway, Marathon, FL 33050 | Planning Department, 9805 Overseas Highway, Marathon, FL 33050 | https://msc.fema.gov/portal/advanceSearch | Jan. 23, 2019 | 120681
Monroe | Unincorporated areas of Monroe County (18-04-4672P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Jan. 28, 2019 | 125129
Monroe | Unincorporated areas of Monroe County (18-04-5414P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Jan. 16, 2019 | 125129
Monroe | Unincorporated areas of Monroe County (18-04-5417P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Jan. 16, 2019 | 125129
Monroe | Village of Islamorada (18-04-5481P) | The Honorable Chris Sante, Mayor, Village of Islamorada, 86800 Overseas Highway, Islamorada, FL 33036 | Planning and Development Department, 86800 Overseas Highway, Islamorada, FL 33036 | https://msc.fema.gov/portal/advanceSearch | Jan. 2, 2019 | 120424
Pinellas | City of St. Petersburg (18-04-5337P) | The Honorable Rick Kriseman, Mayor, City of St. Petersburg, 175 5th Street North, St. Petersburg, FL 33701 | Construction Services and Permitting Department, 1 4th Street North, St. Petersburg, FL 33701 | https://msc.fema.gov/portal/advanceSearch | Jan. 28, 2019 | 125148
Polk | Unincorporated areas of Polk County (18-04-1818P) | The Honorable R. Todd Dantzler, Chairman, Polk County Board of Commissioners, 330 West Church Street, Bartow, FL 33831 | Polk County Floodplain Department, 330 West Church Street, Bartow, FL 33831 | https://msc.fema.gov/portal/advanceSearch | Jan. 24, 2019 | 120261
Georgia: Henry | Unincorporated areas of Henry County (18-04-3824P) | The Honorable June Wood, Chair, Henry County Board of Commissioners, 140 Henry Parkway, McDonough, GA 30253 | Henry County Stormwater Department, 347 Phillips Drive, McDonough, GA 30253 | https://msc.fema.gov/portal/advanceSearch | Jan. 31, 2019 | 130468
Maine: Knox | Town of Owls Head (18-01-1542P) | The Honorable Thomas Von Malder, Chairman, Town of Owls Head Board of Selectmen, 224 Ash Point Drive, Owls Head, ME 04854 | Building Department, 224 Ash Point Drive, Owls Head, ME 04854 | https://msc.fema.gov/portal/advanceSearch | Jan. 11, 2019 | 230075
Massachusetts: Essex | Town of Rockport (18-01-1042P) | The Honorable Sarah J. Wilkinson, Chair, Town of Rockport Board of Selectmen, 34 Broadway, Rockport, MA 01966 | Department of Inspection Services, 34 Broadway, Rockport, MA 01966 | https://msc.fema.gov/portal/advanceSearch | Jan. 9, 2019 | 250100
Mississippi: Warren | City of Vicksburg (18-04-5020P) | The Honorable George E. Flaggs, Jr., Mayor, City of Vicksburg, 1401 Walnut Street, Vicksburg, MS 39180 | Inspections Department, 819 South Street, Vicksburg, MS 39180 | https://msc.fema.gov/portal/advanceSearch | Jan. 2, 2019 | 280176
Nevada: Clark | Unincorporated areas of Clark County (18-09-0813P) | The Honorable Steve Sisolak, Chairman, Clark County Board of Commissioners, 500 South Grand Central Parkway, Las Vegas, NV 89155 | Clark County Public Works Department, 500 South Grand Central Parkway, Las Vegas, NV 89155 | https://msc.fema.gov/portal/advanceSearch | Jan. 25, 2019 | 320003
New Mexico: Bernalillo | Unincorporated areas of Bernalillo County (18-06-2313P) | The Honorable Steven Michael Quezada, Chairman, Bernalillo County Board of Commissioners, 1 Civic Plaza Northwest, Albuquerque, NM 87102 | Bernalillo County Public Works Division, 2400 Broadway Boulevard Southeast, Albuquerque, NM 87102 | https://msc.fema.gov/portal/advanceSearch | Jan. 14, 2019 | 350001
North Carolina:
Alleghany | Town of Sparta (18-04-0634P) | The Honorable Wes Brinegar, Mayor, Town of Sparta, P.O. Box 99, Sparta, NC 28675 | Town Hall, 304 South Main Street, Sparta, NC 28675 | https://msc.fema.gov/portal/advanceSearch | Dec. 6, 2018 | 370005
Warren | Unincorporated areas of Warren County (18-04-2099P) | The Honorable Victor Hunt, Chairman, Warren County Board of Commissioners, 602 West Ridgeway Street, Warrenton, NC 27589 | Planning, Zoning & Code Enforcement Office, 542 West Ridgeway Street, Warrenton, NC 27589 | https://msc.fema.gov/portal/advanceSearch | Dec. 27, 2018 | 370396
South Dakota:
Stanley | City of Fort Pierre (18-08-0148P) | The Honorable Gloria Hanson, Mayor, City of Fort Pierre, P.O. Box 700, Fort Pierre, SD 57532 | Department of Public Works, 08 East 2nd Avenue, Fort Pierre, SD 57532 | https://msc.fema.gov/portal/advanceSearch | Jan. 25, 2019 | 465419
Stanley | Unincorporated areas of Stanley County (18-08-0148P) | The Honorable Dana Iversen, Chair, Stanley County Commission, P.O. Box 595, Fort Pierre, SD 57532 | Stanley County Department of Public Works, 08 East 2nd Avenue, Fort Pierre, SD 57532 | https://msc.fema.gov/portal/advanceSearch | Jan. 25, 2019 | 460287
Texas:
Bell | City of Temple (18-06-1765P) | The Honorable Tim Davis, Mayor, City of Temple, 2 North Main Street, Suite 103, Temple, TX 76501 | Department of Public Works, Engineering Division, 3210 East Avenue H, Building A, Suite 107, Temple, TX 76501 | https://msc.fema.gov/portal/advanceSearch | Jan. 9, 2019 | 480034
Bell | Unincorporated areas of Bell County (18-06-1765P) | The Honorable Jon H. Burrows, Bell County Judge, P.O. Box 768, Belton, TX 76513 | Bell County Engineering Department, 206 North Main Street, Belton, TX 76513 | https://msc.fema.gov/portal/advanceSearch | Jan. 9, 2019 | 480706
Bexar | City of Universal City (18-06-1420P) | The Honorable John Williams, Mayor, City of Universal City, 2150 Universal City Boulevard, Universal City, TX 78148 | Stormwater Department, 2150 Universal City Boulevard, Universal City, TX 78148 | https://msc.fema.gov/portal/advanceSearch | Jan. 14, 2019 | 480049
Bexar | Unincorporated areas of Bexar County (18-06-1812P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Dec. 24, 2018 | 480035
Collin | City of Allen (18-06-1943P) | Mr. Peter H. Vargas, Manager, City of Allen, 305 Century Parkway, Allen, TX 75013 | Engineering and Traffic Department, 305 Century Parkway, Allen, TX 75013 | https://msc.fema.gov/portal/advanceSearch | Jan. 7, 2019 | 480131
Collin | City of Plano (18-06-1563P) | The Honorable Harry LaRosiliere, Mayor, City of Plano, 1520 K Avenue, Plano, TX 75074 | Engineering Department, 1520 K Avenue, Plano, TX 75074 | https://msc.fema.gov/portal/advanceSearch | Jan. 18, 2019 | 480140
Collin | City of Plano (18-06-1943P) | The Honorable Harry LaRosiliere, Mayor, City of Plano, 1520 K Avenue, Plano, TX 75074 | Engineering Department, 1520 K Avenue, Plano, TX 75074 | https://msc.fema.gov/portal/advanceSearch | Jan. 7, 2019 | 480140
Tarrant | City of Fort Worth (18-06-1064P) | The Honorable Betsy Price, Mayor, City of Fort Worth, 200 Texas Street, Fort Worth, TX 76102 | Transportation and Public Works Department, 200 Texas Street, Fort Worth, TX 76102 | https://msc.fema.gov/portal/advanceSearch | Dec. 28, 2018 | 480596
Tarrant | City of Kennedale (18-06-3137X) | The Honorable Brian Johnson, Mayor, City of Kennedale, 405 Municipal Drive, Kennedale, TX 76060 | Planning and Development Department, 405 Municipal Drive, Kennedale, TX 76060 | https://msc.fema.gov/portal/advanceSearch | Jan. 3, 2019 | 480603
Webb | City of Laredo (17-06-3048P) | The Honorable Pete Saenz, Mayor, City of Laredo, 1110 Houston Street, 3rd Floor, Laredo, TX 78040 | Planning and Zoning Department, 1120 San Bernardo Avenue, Laredo, TX 78050 | https://msc.fema.gov/portal/advanceSearch | Jan. 14, 2019 | 480651

[FR Doc. 2018-25551 Filed 11-21-18; 8:45 am]

BILLING CODE 9110-12-P